DEPARTMENT OF HEALTH AND HUMAN SERVICES

Centers for Disease Control and Prevention

[30Day-17-0995]

Agency Forms Undergoing Paperwork Reduction Act Review

The Centers for Disease Control and Prevention (CDC) has submitted the following request for reinstatement with change to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Network of Sexually Transmitted Diseases Clinical Prevention Training Centers (NNPTC): Evaluation (OMB Control No. 0920-0995, Expiration 10/31/2016)—Reinstatement with Change—National Center for HIV/AIDS, Viral Hepatitis, STD, and TB Prevention (NCHHSTP), Centers for Disease Control and Prevention (CDC).

Background and Brief Description

The Centers for Disease Control and Prevention (CDC), Division of STD Prevention (DSTDP) requests a three-year approval for this reinstatement with change to the previously OMB approved information collection project entitled, “Health Professional Application for Training (HPAT) OMB #0920-0995 exp. 10/31/2016”. The revision request consists of changing the title to “National Network of Sexually Transmitted Disease Clinical Prevention Training Centers (NNPTC): Evaluation”, abbreviating the Health Professional Application for Training HPAT form; now called the “NNPTC HPAT”. This request also contains the following changes: Elimination of 18 demographic items from the HPAT, addition of 5 demographic items to the HPAT, and addition of 98 evaluation questions to be used in 14 post-course and 90-day follow-up evaluation instruments to monitor and evaluate program outcomes.

The Prevention Training Centers (PTCs) offer classroom, web-based, and experiential training, clinical consultation, and capacity building assistance to maintain and enhance the capacity of health care professionals to screen for, diagnose, treat, manage, and prevent STDs. Previously, there has not been a systematic evaluation of the outcomes of the NNPTC program. The CDC's Funding Opportunity Announcement PS 14-1407, National Network of Sexually Transmitted Diseases Clinical Prevention Training Centers (NNPTC) requires the collection of demographic information on trainees and the collection of national evaluation outcomes. Therefore, the 14 new evaluation forms were needed and the previously approved HPAT registration form was shortened to decrease the burden on respondents. This evaluation will provide the CDC with information to assess the performance of their grantees, and will provide the NNPTC with information to improve program processes and operations in order to improve the quality of STD prevention and treatment, a key public health and evaluation activity promoted by the CDC and DSTDP.

The NNPTC HPAT will serve as the standard application and registration form for all NNPTC trainings collecting demographic information such as race, gender, work contact information, profession, functional role, work setting, programmatic focus, and at-risk populations served. NNPTC HPAT data will be used to plan and organize trainings, and determine whether NNPTC trainings are reaching the designated priority audiences: STD experts and primary care providers who serve adolescents, young adults, pregnant women, and men who have sex with men. Evaluation instruments will be used to assess satisfaction with the training, and measure participant changes in knowledge, skills, intentions to change clinical practices, and actual changes in clinical practices.

Data will be collected up to three times annually from 4,500 healthcare professionals who provide STD screening, diagnosis, and treatment or provide services to populations at risk of STD and receive NNPTC training or technical assistance. This is a decrease from the origionally approved 7,400 due to a decrease in the number of PTCs and therefore number of healthcare professionals trained. All 4,500 healthcare professionals will complete the NNPTC HPAT registration and all will be asked via two emails to voluntarily complete one evaluation within several days after training (Post-Course Evaluation) and a second evaluation (Long-Term Evaluation) three months after training. A subset of 1,590 is expected to volunteer to complete the Post-Course Evaluation, and a smaller subset of 519 is expected to volunteer to complete the Long-Term Evaluation. The total burden hours for this request is 416 hours compared to the originally approved 617 burden hours.

The 3-minute NNPTC HPAT provides an efficient online registration process for all PTCs and takes two minutes less to complete than the previously approved version. The 14 evaluation instruments vary in number of questions based on the intensity of the training. Time to complete the different evaluation instruments ranges from 2 minutes for a one-hour training to 16 minutes for a multi-day training. Burden is calculated for each instrument separately based on number of respondents and number of questions in each instrument.

There are no costs to respondents other than their time. The estimated annualized burden hours for this data collection are 416 hours as compared to 617 for the previous approval. This reduction in burden is due to the shorter time needed to complete the HPAT (3 minutes versus the previously approved 5 minutes) and the smaller number of estimated respondents (4,500 versus 7,400) since there are now fewer PTCs conducting training. This savings for the HPAT burden is greater than the additional burden created by adding 14 new evaluation instruments since only a subset of the 4,500 respondents will complete the post-course evaluation and 90-day long-term evaluation.

Estimated Annual Burden Hours
Type of respondent | Form name | Number of respondents | Number responses per respondent | Average burden per response (in hours) | Total burden hours
Data Collection 1
Healthcare Professionals | NNPTC Abbreviated Health Professional Application for Training (NNPTC HPAT) | 4,500 | 1 | 3/60 | 225
Data Collection 2 (POST) and Data Collection 3 (Long-Term)
Healthcare Professionals | Intensive Complete POST-Course Evaluation | 116 | 1 | 16/60 | 31
| Intensive Complete Long-Term Evaluation | 36 | 1 | 10/60 | 6
Healthcare Professionals | Intensive-Didactic POST-Course Evaluation | 166 | 1 | 10/60 | 28
| Intensive-Didactic Long-Term Evaluation | 58 | 1 | 7/60 | 7
Healthcare Professionals | Practicum POST-Course Evaluation | 70 | 1 | 4/60 | 5
| Practicum Long-Term Evaluation | 20 | 1 | 3/60 | 1
Healthcare Professionals | Wet Mount POST-Course Evaluation | 40 | 1 | 3/60 | 2
| Wet Mount Long-Term Evaluation | 15 | 1 | 2/60 | 1
Healthcare Professionals | STD Tx Guidelines Complete POST-Course Evaluation | 548 | 1 | 6/60 | 55
| STD Tx Guidelines Complete Long-Term Evaluation | 180 | 1 | 5/60 | 15
Healthcare Professionals | STD Tx Guidelines Short POST-Course Evaluation | 500 | 1 | 3/60 | 25
| STD Tx Guidelines Short Long-Term Evaluation | 160 | 1 | 3/60 | 8
Healthcare Professionals | Basic POST-Course Evaluation | 150 | 1 | 2/60 | 5
| Basic Long-Term Evaluation | 50 | 1 | 2/60 | 2

Leroy A. Richardson,
Chief, Information Collection Review Office, Office of Scientific Integrity, Office of the Associate Director for Science, Office of the Director, Centers for Disease Control and Prevention.

[FR Doc. 2017-02557 Filed 2-7-17; 8:45 am]

BILLING CODE 4163-18-P